ENVIRONMENTAL PROTECTION AGENCY

[ER-FRL-8584-8]

Environmental Impacts Statements; Notice of Availability

Responsible Agency: Office of Federal Activities, General Information (202) 564-7167 or http://www.epa.gov/compliance/nepa/.

Weekly receipt of Environmental Impact Statements

Filed 08/11/2008 Through 08/15/2008

Pursuant to 40 CFR 1506.9.

EIS No. 20080314, Draft EIS, NOA, OR, Elliott State Forest Habitat Conservation Plan, Proposed Issuance of an Incidental Take Permit, U.S. Army Corps Section 10 and 404 Permits, Coos and Douglas Counties, OR, Comment Period Ends: 11/20/2008, Contact: Chuck Wheeler 541-957-3379.

EIS No. 20080315, Second Draft Supplement, BLM, NV, Betze Pit Expansion Project, Development of New Facilities and Expansion of Existing Open-Pit Gold Mining, Eureka and Elko Counties, NV, Comment Period Ends: 10/06/2008, Contact: Kirk Laird 775-753-0272.

EIS No. 20080316, Final EIS, BLM, UT, Vernal Field Office Resource Management Plan, To Revise and Integrate the Book Cliff and Diamond Mountain Resource Management Plans, and Analyzing the Management of Non-Wilderness Study Area Lands with Wilderness Characteristic, Implementation, Daggett, Duchesne, Uintah, and Grand Counties, UT, Wait Period Ends: 09/22/2008, Contact: Kelly Buckner 435-781-4400.

EIS No. 20080317, Final EIS, FHW, 00, Interstate 73 North Project, Construct on New Alignment, from I-95 to Future I-74 in NC, Funding, U.S. Army COE Section 404 Permit, Dillon and Malboro Counties, SC, and Richmond and Scotland Counties, NC, Wait Period Ends: 09/22/2008, Contact: Patrick L. Tyndall 803-765-5460.

EIS No. 20080318, Final EIS, BLM, WY, Pinedale Resource Management Plan, Implementation, of Public Lands Administered, Pinedale Field Office, Sublette and Lincoln Counties, WY, Wait Period Ends: 09/22/2008, Contact: Ken Peacock 307-775-6113.

EIS No. 20080319, Draft EIS, FAA, AK, Sitka Rocky Gutierrez Airport Master Plan, Improvements to the Runway Safety Area, Taxiway. Seaplane Pullout, Approach Lighting System, and the Seawall, U.S. Army COE Section 10 and 404 Permits, NPDES Permit, AK, Comment Period Ends: 10/14/2008, Contact: Patricia Sullivan 907-271-5454.

EIS No. 20080320, Draft Supplement, NOA, 00, Amendment 18 to the Fishery Management Plan, Pelagic Fisheries of the Western Pacific Region, Management Modifications for the Hawaii-based Shallow-set Longline Swordfish Fishery, Proposal to Remove Effort Limits, Eliminate the Set Certificate Program and Implement New Sea Turtle Interaction Caps, Comment Period Ends: 10/06/2008, Contact: William Robinson 808-944-2200.

EIS No. 20080321, Final EIS, FHW, CA, Phase I—CA 11 Corridor Location and Route Adoption and Location Identification of the Otay Mesa East Port of Entry (POE) on Otay Mesa, Presidential Permit for the POE and Acquisition of Right-Of-Way Permit, San Diego County, CA, Wait Period Ends: 09/22/2008, Contact: Cesar E. Perez 916-498-5065.

EIS No. 20080322, Final EIS, NRC, GA, Vogtle Electric Generating Plant Site, Early Site Permit (ESP), for the Construction and Operation of a new Nuclear Power Generating Facility Application Approval, Burke County, GA NUREG 1872, Wait Period Ends: 09/22/2008, Contact: Mark D. Notich 301-415-3053.

EIS No. 20080323, Final EIS, CGD, 00, Rulemaking for Dry Cargo Residue (DCR) Discharges in the Great Lakes, To Regulate Nonhazardous and Nontoxic DCR Sweeping from Vessels in the Great Lakes that fall under the Jurisdiction of the United States, Wait Period Ends: 09/22/2008, Contact: Gregory Kirkbride 202-372-1479.

EIS No. 20080324, Final EIS, BLM, WY, Kemmerer Field Office Planning Area, Resource Management Plan, Implementation, Lincoln, Sweetwater and Uinta Counties, WY, Wait Period Ends: 09/22/2008, Contact: Michele Easley 307-828-4524.

EIS No. 20080325, Final EIS, NRC, CA, Generic—License Renewal of Nuclear Plants (GEIS) Regarding Shearon Harris Nuclear Power Plant, Unit 1, Plant-Specific Supplement 33 to NUREG-1437, Wake County, NC, Wait Period Ends: 09/22/2008, Contact: Samuel Hernandez 301-415-4049.

Amended Notices

EIS No. 20080282, Draft EIS, UPS, CA, Aliso Viejo Incoming Mail Facility, Proposed Construction and Operation of a Mail Processing Facility on a 25-Acre Parcel, Aliso Viejo, Orange County, CA, Comment Period Ends: 10/23/2008, Contact: Emmy Andrews 650-615-7200.

Revision to FR Notice Published 7/25/2008: Extending Comment Period from 9/08/2008 to 10/23/2008.

Dated: August 19, 2008.
Robert W. Hargrove,
Director, NEPA Compliance Division, Office of Federal Activities.

[FR Doc. E8-19535 Filed 8-21-08; 8:45 am]

BILLING CODE 6560-50-P